DEPARTMENT OF HOMELAND SECURITY

U.S. Customs and Border Protection

Accreditation of R. Markey & Sons, Inc., Markan Laboratories, as a Commercial Laboratory

AGENCY: U.S. Customs and Border Protection, Department of Homeland Security.

ACTION: Notice of accreditation of R. Markey & Sons, Inc., Markan Laboratories, as a commercial laboratory.

SUMMARY: Notice is hereby given, pursuant to the CBP regulations, that R. Markey & Sons, Inc., Markan Laboratories, has been accredited as a commercial laboratory to analyze sugar, sugar syrups and confectionary products under Chapter 17 of the Harmonized Tariff Schedule of the United States (HTSUS) for customs purposes for the next three years as of June 21, 2012.

DATES: Effective Dates: The accreditation of R. Markey & Sons, Inc., Markan Laboratories, as a commercial laboratory became effective on June 21, 2012. The next triennial inspection date will be scheduled for June 2014.

FOR FURTHER INFORMATION CONTACT: Dr. Jonathan McGrath, Laboratories and Scientific Services, U.S. Customs and Border Protection, 1331 Pennsylvania Avenue NW., Suite 1500N, Washington, DC 20229, tel. 202-344-1060.

SUPPLEMENTARY INFORMATION: Notice is hereby given that pursuant to 19 CFR 151.12, R. Markey & Sons, Inc., Markan Laboratories, 5 Hanover Square 12th Floor, New York, NY 10004, has been accredited to analyze sugar, sugar syrups and confectionary products under Chapter 17 of the Harmonized Tariff Schedule of the United States (HTSUS) for customs purposes, in accordance with the provisions of 19 CFR 151.12. Specifically, R. Markey & Sons, Inc. has been granted accreditation to perform the following test methods only: (1) Polarization of Raw Sugar, ICUMSA GS 1/2/3-1; (2) The Determination of the Polarization of Raw Sugar Without Wet Lead Clarification, ICUMSA GS 1/2/3/-2; (3) Sugar Moisture by Loss of Drying, ICUMSA GS 2/1/3-15; (4) Polarization of White Sugar, ICUMSA GS 2/3-1. Anyone wishing to employ this entity to conduct laboratory analyses should request and receive written assurances from the entity that it is accredited by the U.S. Customs and Border Protection to conduct the specific test requested. Alternatively, inquiries regarding the specific test this entity is accredited to perform may be directed to the U.S. Customs and Border Protection by calling (202) 344-1060. The inquiry may also be sent to cbp.labhq@dhs.gov. Please reference the Web site listed below for a complete listing of CBP approved gaugers and accredited laboratories.

http://www.cbp.gov/linkhandler/cgov/trade/basic_trade/labs_scientific_svcs/commercial_gaugers/gaulist.ctt/gaulist.pdf.

Dated: December 21, 2012.
Ira S. Reese,
Executive Director, Laboratories and Scientific Services.

[FR Doc. 2013-01887 Filed 1-28-13; 8:45 am]

BILLING CODE 9111-14-P